DEPARTMENT OF COMMERCE

National Oceanic and Atmospheric Administration

RIN: 0648-XE10

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Mid-Atlantic section of the Monkfish Committee, its Squid, Mackerel, and Butterfish Committee, its Bycatch/Limited Access Committee, and its Executive Committee will hold public meetings.

DATES: The meetings will be held on Monday, December 10, 2007 through Thursday, December 14, 2007. See SUPPLEMENTARY INFORMATION for specific dates and times

ADDRESSES: This meeting will be held at the Holiday Inn Harmon Meadow, 300 Plaza Drive, Secaucus, NJ 07094; telephone: (201) 348-2000.

Council address: Mid-Atlantic Fishery Management Council, 300 S. New Street, Dover, DE 19904; telephone: (302) 674-2331.

FOR FURTHER INFORMATION CONTACT: Daniel T. Furlong, Executive Director, Mid-Atlantic Fishery Management Council; telephone: (302) 674-2331, ext. 19.

SUPPLEMENTARY INFORMATION: On Monday, December 10, the Council will convene to conduct a workshop on the impact of the Reauthorized Magnuson-Stevens Act on its specification setting process. On Tuesday, December 11, the Council will convene jointly with the Atlantic States Marine Fisheries Commission's (ASMFC) Summer Flounder, Scup, and Black Sea Bass Board beginning at 8:30 a.m. through 4:30 p.m. From 4:30 p.m. until 5:30 p.m. the Mid-Atlantic section of the Monkfish Committee will meet. On Wednesday, December 12, the Council will convene at 8 a.m. until 1:15 p.m. From 1:15 p.m. until 3:30 p.m. the Squid, Mackerel, and Butterfish Committee will meet. From 3:30 p.m. until 5:30 p.m. the Bycatch / Limited Access Committee will meet. On Thursday, December 13, the Executive Committee will meet from 8 a.m. until 9 a.m. The Council will convene at 9 a.m. and remain in session until approximately 12 p.m.

Agenda items by day for the Council's committees and the Council itself are: Monday, December 10 - The Council will convene to conduct a workshop on the impact of the Reauthorized Magnuson-Stevens Act on its specification setting process. Tuesday, December 11 - The Council will convene jointly with the Atlantic States Marine Fisheries Commission's (ASFMC) Summer Flounder, Scup, and Black Sea Bass Board. They will review and discuss the Monitoring Committee's and the Advisory Panel's recommendations on summer flounder, scup, and black sea bass recreational management measures, and develop and approve management measures for the 2008 summer flounder recreational fisheries. The Mid-Atlantic section of the Monkfish Committee will review and discuss action taken by the New England Council regarding Framework 5 and 6, and develop a Council position regarding Framework 5 and Framework 6. Wednesday, December 12 - The Council will conduct its regular business session to approve October Council minutes, approve actions from the October meeting, and receive various organizational reports. The Council will review and approve the final action on Framework 5 to the Monkfish FMP. There will be an awards presentation to recognize the 2007 Fisheries Achievement Award winner. The Squid, Mackerel, and Butterfish Committee will review management alternatives to address the mackerel limited entry program. The Bycatch/Limited Access Committee will receive an update on the National Bycatch Report. Thursday, December 13 - The Executive Committee will review the Scientific and Statistical Committee (SSC) membership process and SSC member stipends. The Council will then convene to receive a Marine Debris presentation and Committee reports, review and approve changes to the Statement of Organization, Practices, and Procedures (SOPP) related to the SSC role, address reappointment of existing members, fill two vacancies on the SSC, and discuss the concept of adjunct SSC members.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to M. Jan Bryan, (302) 674-2331 ext: 18, at least 5 days prior to the meeting date.

Dated: November 21, 2007.
Tracey L. Thompson,
Acting Director, Office of Sustainable Fisheries, National Marine Fisheries Service.

[FR Doc. E7-23018 Filed 11-26-07; 8:45 am]

BILLING CODE 3510-22-S